DEPARTMENT OF COMMERCE

International Trade Administration

[A-351-605]

Frozen Concentrated Orange Juice from Brazil; Preliminary Results of Antidumping Duty Administrative Review; Time Limits

AGENCY: Import Administration, International Trade Administration, Department of Commerce.

ACTION: Notice of Extension of Time Limits of Preliminary Results of 1999-2000 Administrative Review.

EFFECTIVE DATE: January 22, 2001.

FOR FURTHER INFORMATION CONTACT: Irina Itkin, Office of AD/CVD Enforcement, Office 2, Import Administration, International Trade Administration, U.S. Department of Commerce, 14th Street and Constitution Avenue, NW, Washington, DC, 20230; telephone (202) 482-0656.

Postponement of Preliminary Results of Administrative Review

The Department issued the initiation of the thirteenth administrative review of the antidumping duty order on frozen concentrated orange juice from Brazil on June 30, 2000 (65 FR 41942 (July 7, 2000)). The current deadline for the preliminary results in this review is January 30, 2001. In accordance with section 751(a)(3)(A) of the Tariff Act of 1930, as amended (the Act), and 19 CFR 351.213(h)(2), the Department finds that the preliminary results cannot be issued within the original time frame due to the extraordinarily complicated nature of certain cost issues in this review.

Because it is not practicable to complete the administrative review within the time limits mandated by the Uruguay Round Agreements Act (245 days from the last day of the anniversary month for preliminary results), pursuant to section 751(a)(3)(A) of the Act, and 19 CFR 351.213(h)(2), the Department is extending the time limit for completion of the preliminary results of the administrative review until May 30, 2001.

This extension is in accordance with section 751(a)(3)(A) of the Act.

Dated: January 16, 2001.
Richard W. Moreland,
Deputy Assistant Secretary for Import Administration.

[FR Doc. 01-1842 Filed 1-19-01; 8:45 am]

BILLING CODE 3510-DS-P